DEPARTMENT OF DEFENSE

Defense Acquisition Regulations System

[Docket Number: DARS-2017-0005; OMB Control Number: 0704-0272]

Information Collection Requirement; Defense Federal Acquisition Regulation Supplement; Occupational Safety, Drug-Free Work Force and Related Clauses

AGENCY: Defense Acquisition Regulations System, Department of Defense (DoD).

ACTION: Notice and request for comments regarding a proposed extension of an approved information collection requirement.

SUMMARY: In compliance with the Paperwork Reduction Act of 1995, DoD announces the proposed extension of a public information collection requirement and seeks public comment on the provisions thereof. DoD invites comments on: Whether the proposed collection of information is necessary for the proper performance of the functions of DoD, including whether the information will have practical utility; the accuracy of the estimate of the burden of the proposed information collection; ways to enhance the quality, utility, and clarity of the information to be collected; and ways to minimize the burden of the information collection on respondents, including the use of automated collection techniques or other forms of information technology. The Office of Management and Budget (OMB) has approved this information collection requirement for use through October 31, 2017. DoD proposes that OMB extend its approval for use for three additional years beyond the current expiration date.

DATES: DoD will consider all comments received by October 17, 2017.

ADDRESSES: You may submit comments, identified by OMB Control Number 0704-0272, using any of the following methods:

Federal eRulemaking Portal: http://www.regulations.gov. Follow the instructions for sending comments.

• Email: osd.dfars@mail.mil. Include OMB Number 0704-0272 in the subject line of the message.

• Fax: 571-372-6094.

• Mail: Defense Acquisition Regulations System, Attn: Ms. Lee Renna, OUSD(AT&L)DPAP(DARS), 3060 Defense Pentagon, Room 3B941, Washington, DC 20301-3060.

Comments received generally will be posted without change to http://www.regulations.gov, including any personal information provided.

Instructions: Search for “Docket Number: DARS-2017-0005.” Select “Comment Now” and follow the instructions provided to submit a comment. All submissions received must include the agency name and docket number for this notice. Comments received generally will be posted without change to http://www.regulations.gov, including any personal information provided. To confirm receipt of your comment(s), please check www.regulations.gov, approximately two to three days after submission to verify posting (except allow 30 days for posting of comments submitted by mail).

FOR FURTHER INFORMATION CONTACT: Ms. Lee Renna, 571-372-6095.

SUPPLEMENTARY INFORMATION:

Title, Associated Form, and OMB Number: Defense Federal Acquisition Regulation Supplement (DFARS) part 223, Occupational Safety and Drug-Free Work Force and Related Clauses in DFARS 252.223; OMB Control Number 0704-0272.

Needs and Uses: This information collection requires that an offeror or contractor submit information to DoD in response to DFARS solicitation four contract clauses relating to occupational safety and drug-free work force program. DoD contracting officers use this information to—

○ Verify compliance with requirements for labeling of hazardous materials;

○ Ensure contractor compliance and monitor subcontractor compliance with DoD 4145.26-M, DoD Contractors' Safety Manual for Ammunition and Explosives, and minimize risk of mishaps;

○ Identify the place of performance of all ammunition and explosives work; and

○ Ensure contractor compliance and monitor subcontractor compliance with DoD 5100.76-M, Physical Security of Sensitive Conventional Arms, Ammunition, and Explosives.

○ Ensure compliance with the clause program requirements with regard to programs for achieving the objective of a drug-free work force; requires contractor recordkeeping.

Type of Collection: Revision of a currently approved collection.

Obligation to Respond: Required to obtain or retain benefits.

Frequency: On occasion.

Affected Public: Businesses or other for-profit and not-for-profit institutions.

Number of Respondents: 3,695.

Responses per Respondent: 16.8, approximately.

Annual Responses: 62,053.

Average Burden per Response: 10.4 hours, approximately.

Annual Burden Hours: 645,744 hours.

Summary of Information Collection

This information collection addresses the following requirements:

1. DFARS 252.223-7001, Hazard Warning Labels. Paragraph (c) requires all offerors to list which hazardous materials will be labeled in accordance with certain statutory requirements instead of the Hazard Communication Standard. Paragraph (d) requires only the apparently successful offeror to submit, before award, a copy of the hazard warning label for all hazardous materials not listed in paragraph (c) of the clause.

2. DFARS 252.223-7002, Safety Precautions for Ammunition and Explosives. Paragraph (c)(2) requires the contractor, within 30 days of notification of noncompliance with DoD 4145.26-M, to notify the contracting officer of actions taken to correct the noncompliance. Paragraph (d)(1) requires the contractor to notify the contracting officer immediately of any mishaps involving ammunition or explosives. Paragraph (d)(3) requires the contractor to submit a written report of the investigation of the mishap to the contracting officer. Paragraph (g)(4) requires the contractor to notify the contracting officer before placing a subcontract for ammunition or explosives.

3. DFARS 252.223-7003, Changes in Place of Performance—Ammunition and Explosives. Paragraph (a) requires the offeror to identify, in the Place of Performance provision of the solicitation, the place of performance of all ammunition and explosives work covered by the Safety Precautions for Ammunition and Explosives clause of the solicitation. Paragraphs (b) and (c) require the offeror or contractor to obtain written permission from the contracting officer before changing the place of performance after the date set for receipt of offers or after contract award.

4. DFARS 252.223-7007, Safeguarding Sensitive Conventional Arms, Ammunition, and Explosives. Paragraph (e) requires the contractor to notify the cognizant Defense Security Service field office within 10 days after award of any subcontract involving sensitive conventional arms, ammunition, and explosives within the scope of DoD 5100.76-M.

5. DFARS 252.223-7004, Drug-Free Work Force. The clause requires that certain contractors maintain records necessary to demonstrate reasonable efforts to eliminate the unlawful use by contractor employees of controlled substances. DoD does not regularly collect any information with regard to this clause.

Jennifer L. Hawes,
Editor, Defense Acquisition Regulations System.

[FR Doc. 2017-17515 Filed 8-17-17; 8:45 am]

BILLING CODE 5001-06-P